DEPARTMENT OF THE INTERIOR

Bureau of Ocean Energy Management

[Docket No. BOEM-2021-0084]

Notice of Availability of a Joint Record of Decision (ROD) for the South Fork Wind, LLC Proposed Wind Energy Facility Offshore Rhode Island

AGENCY: Bureau of Ocean Energy Management (BOEM), Interior; National Marine Fisheries Service (NMFS), Commerce.

ACTION: Notice of availability (NOA); record of decision (ROD).

SUMMARY: BOEM announces the availability of the joint ROD on the final environmental impact statement (EIS) for the construction and operations plan (COP) submitted by South Fork Wind, LLC (South Fork Wind). The joint ROD includes the decisions of the Department of the Interior (DOI) and NMFS regarding the South Fork Wind COP. NMFS has adopted the Final EIS to support its decision to issue an incidental take authorization under the Marine Mammal Protection Act. The joint ROD concludes the National Environmental Policy Act (NEPA) process for each agency and is available with associated information on BOEM's website at: https://www.boem.gov/renewable-energy/state-activities/south-fork.

FOR FURTHER INFORMATION CONTACT: For information on the South Fork Wind Offshore Wind Energy Project ROD, please contact: BOEM—Michelle Morin, BOEM Office of Renewable Energy Programs, 45600 Woodland Road, Sterling, Virginia 20166, (703) 787-1722, or michelle.morin@boem.gov; For information related to NMFS' action, contact Candace Nachman, NOAA Fisheries Office of Policy, (301) 427-8031, candace.nachman@noaa.gov.

SUPPLEMENTARY INFORMATION: South Fork Wind seeks approval to construct, operate, maintain, and eventually decommission the Project—a wind energy facility on the Outer Continental Shelf (OCS) offshore Rhode Island and an associated export cable. The Project would be developed within the range of design parameters outlined in the South Fork Wind COP, subject to applicable mitigation measures. The COP for the South Fork Wind Farm (SFWF) proposed the installation of up to 15 wind turbine generators with a nameplate capacity of 6 to 12 megawatts per turbine, submarine cables between the wind turbine generators (inter-array cables), and an offshore substation. The SFWF would be located entirely on the OCS in the area covered by Renewable Energy Lease OCS-A 0517 (Lease Area), approximately 19 miles southeast of Block Island, Rhode Island, and 35 miles east of Montauk Point, New York. The South Fork Export Cable (SFEC) would be an alternating current electric cable that would connect the SFWF to the existing mainland electric grid in East Hampton, New York. The Project also would include an operations and maintenance facility located onshore at either Montauk in East Hampton, New York, or Quonset Point in North Kingstown, Rhode Island, and the SFEC will connect with the Long Island Power Authority electric transmission and distribution system in the town of East Hampton, New York. After carefully considering alternatives described and analyzed in the Final EIS and comments from the public on the Draft EIS, the Department of the Interior has decided to approve the COP for South Fork Wind under the Fisheries Habitat Impact Minimization Alternative, which will allow 12 or fewer turbines and one offshore substation to be installed by South Fork Wind. The full text of the mitigation, monitoring, and reporting requirements, which will be included in BOEM's COP approval, are available in the ROD, which is available on BOEM's website at: https://www.boem.gov/renewable-energy/state-activities/south-fork.

NMFS has decided to adopt, in part, BOEM's Final EIS and issue a final Incidental Harassment Authorization (IHA) to South Fork Wind. NMFS' final decision to issue the requested IHA is documented in a separate Decision Memorandum prepared in accordance with internal NMFS policy and procedures. The IHA authorizes the incidental take of marine mammals while prescribing the means of incidental take as well as mitigation and monitoring requirements, including those mandated by the Biological Opinion issued to complete the formal Endangered Species Act Section 7 consultation process. A Notice of Issuance of the final IHA will be published in the Federal Register.

Authority: This Notice of Availability is published in accordance with regulations (40 CFR parts 1500-1508) implementing the National Environmental Policy Act of 1969, as amended (42 U.S.C. 4321 et seq.).

William Yancey Brown,
Chief Environmental Officer, Bureau of Ocean Energy Management.

[FR Doc. 2021-26040 Filed 11-29-21; 8:45 am]

BILLING CODE 4310-MR-P